DEPARTMENT OF THE INTERIOR

Bureau of Land Management

[14XL1109AF LLUT925000-L14200000-BJ0000-24-1A]

Notice of Filing of Plats of Survey; Utah

AGENCY: Bureau of Land Management, Interior.

ACTION: Notice.

SUMMARY: The Bureau of Land Management (BLM) will file plats of survey of the lands described below in the BLM Utah State Office, Salt Lake City, Utah.

DATES: Protests of the survey must be filed by July 14, 2014.

FOR FURTHER INFORMATION CONTACT: Daniel W. Webb, Chief Cadastral Surveyor, Bureau of Land Management, Branch of Geographic Sciences, 440 West 200 South, Suite 500, Salt Lake City, UT 84101-1345, telephone 801-539-4135, or dwebb@blm.gov. Persons who use a telecommunications device for the deaf (TDD) may call the Federal Information Relay Service (FIRS) at1-800-877-8339 to contact the above individual during normal business hours. The FIRS is available 24 hours a day, seven days a week, to leave a message or question with the above individual. You will receive a reply during normal business hours.

SUPPLEMENTARY INFORMATION: These surveys were executed at the request of the Field Office Manager, Color Country District Office, the lands surveyed are:

Salt Lake Meridian, Utah

T. 42 S., R. 15 W., a metes-and-bounds survey in section 13, accepted May 7, 2014, Group No. 1175, Utah.

T. 42 S., R. 15 W., dependent resurvey of a portion of the west boundary (Pine Valley Guide Meridian), a portion of the subdivisional lines, the subdivision of sections 19 and 20, and the metes-and-bounds survey of parcels A, B, C, and D, in section 19, accepted May 23, 2014, Group No. 1159, Utah.

T. 42 S., R. 16 W., dependent resurvey of a portion of the subdivisional lines, the subdivision of a portion of section 24, and the metes-and-bounds survey of parcels A and B, in section 24, accepted May 23, 2014, Group No. 1159, Utah.

A copy of the plats and related field notes will be placed in the open files. They will be available for public review in the BLM-Utah State Office as a matter of information.

Authority: 43 U.S.C. Chap. 3.

Jenna Whitlock,
Associate State Director.

[FR Doc. 2014-13859 Filed 6-12-14; 8:45 am]

BILLING CODE 4310-DQ-P